DEPARTMENT OF HEALTH AND HUMAN SERVICES

National Institutes of Health

National Institute of Dental & Craniofacial Research; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel 06-38, Review R21.

Date: December 19, 2005.

Time: 11:30 a.m. to 12:30 p.m.

Agenda: To review and evaluate grant applications.

Place: National Institutes of Health, Natcher Building, 45 Center Drive, Bethesda, MD 20892, (Telephone Conference Call).

Contact Person: Peter Zelazowski, PhD., Scientific Review Administrator, Scientific Review Branch, Division of Extramural Activities, National Institute of Dental & Craniofacial Research, National Institutes of Health, Bethesda, MD 20892-6402, 301-593-4861, peter.zelazowski@nih.gov.

This notice is being published less than 15 days prior to the meeting due to the timing limitations imposed by the review and funding cycle.

Name of Committee: National Institute of Dental and Craniofacial Research Special Emphasis Panel 06-28, Review T32s.

Date: January 25, 2006.

Time: 8 a.m. to 5 p.m.

Agenda: To review and evaluate grant applications.

Place: Marriott Courtyard BWI Airport Hotel, 1671 West Nursery Road, Linthicum, MD 21090.

Contact Person: Lynn M. King, PhD., Scientific Review Administrator, Scientific Review Branch, 45 Center Dr., Rm 4AN—32F, National Institution of Dental & Craniofacial Research, National Institutes of Health, Bethesda, MD 20892-6402, 301-594-5006, lynn.king@nih.gov.

Name of Committee: National Institute of Dental and Craniofacial Research Special Emphasis Panel 06-39, Review of R21s (Perio/Micro).

Date: March 22, 2006.

Time: 2 p.m. to 4 p.m.

Agenda: To review and evaluate grant applications.

Place: National Institutes of Health, Natcher Building, 45 Center Drive, Bethesda, MD 20892.

Contact Person: Yujing Liu, MD, PhD., Scientific Review Administrator, National Institute of Dental & Craniofacial Research, 45 Center Drive, Natcher Building, Room. 4AN38E, Bethesda, MD 20892, (301) 594-3169, yujing_liu@nih.gov.

(Catalogue of Federal Domestic Assistance Program Nos. 93.121, Oral Diseases and Disorders Research, National Institutes of Health, HHS)

Dated: December 12, 2005.
Anna Snouffer,
Acting Director, Office of Federal Advisory Committee Policy.

[FR Doc. 05-24308 Filed 12-20-05; 8:45 am]

BILLING CODE 4140-01-M